DEPARTMENT OF COMMERCE

National Oceanic and Atmospheric Administration

RIN: 0648-XJ99

North Pacific Fishery Management Council; Public Meeting

AGENCY: National Marine Fisheries Service (NMFS), National Oceanic and Atmospheric Administration (NOAA), Commerce.

ACTION: Notice of a public meeting.

SUMMARY: The North Pacific Fishery Management Council (Council) Joint Protocol Committee of the Alaska Board of Fisheries and Council will meet in Anchorage, AK.

DATES: The meeting will be held on September 12, 2008, from 9 a.m. to 12 noon.

ADDRESSES: The meeting will be held at the Anchorage Hilton Hotel, 500 W 3rd Avenue, Dillingham Room, Anchorage, AK.

Council address: North Pacific Fishery Management Council, 605 W. 4th Ave., Suite 306, Anchorage, AK 99501-2252.

FOR FURTHER INFORMATION CONTACT: Council staff, telephone: (907) 271-2809.

SUPPLEMENTARY INFORMATION: The meeting agenda: Annual catch limits (ABC/TAC) and possible revisions to scallop and crab management; salmon bycatch amendments; subsistence halibut program bycatch retention; Gulf of Alaska (GOA) issues including the Pacific cod sector split, fixed gear LLP recency, and state/federal options for Pacific cod jig gear fisheries; parallel waters licensing and catch accounting issues; State report on state/federal data collection differences on octopus; and Board of Fisheries agenda change requests.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Gail Bendixen at (907) 271-2809 at least 7 working days prior to the meeting date.

Dated: August 21, 2008.
Emily H. Menashes,
Acting Director, Office of Sustainable Fisheries, National Marine Fisheries Service.

[FR Doc. E8-19788 Filed 8-25-08; 8:45 am]

BILLING CODE 3510-22-S